COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add products and services to the Procurement List that will be furnished by nonprofit agencies employing persons who are blind or have other severe disabilities, and deletes products previously furnished by such agencies.

DATES: Comments Must Be Received on or Before: July 22, 2013.

ADDRESSES: Committee for Purchase From People Who Are Blind or Severely Disabled, 1401 S. Clark Street, Suite 10800, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

NSN: 8020-00-NIB-0050—Utility Knife, Snap Off Blade, Standard Duty, 9mm

NSN: 8020-00-NIB-0052—Utility Knife, Snap Off Blade, Heavy Duty, 18mm

NSN: 8020-00-NIB-0058—Snap Off Blades, Replacement, Utility Knife, Heavy Duty, 18mm, 8pt

COVERAGE: A-List for the Total Government Requirement as aggregated by the General Services Administration.

NSN: 8020-00-NIB-0006—Trimmer, Edge, Paint, Refillable, 4¾″ W x 3½″ H

NSN: 8020-00-NIB-0008—Refill Pads, Trimmer, Edge

NSN: 8020-00-NIB-0044—Brush, Synthetic Filament, Flexible Handle, Ergonomic, 2″

NSN: 8020-00-NIB-0045—Brush, Synthetic Filament, Recycled Handle, 2″

NSN: 8020-00-NIB-0046—Brush, Synthetic Filament, Recycled Handle, 1.5″

NSN: 8020-00-NIB-0051—Utility Knife, Snap Off Blade, Standard Duty, 18mm

NSN: 8020-00-NIB-0053—Utility Knife, Snap Off Blade, Cushion Grip, Ergonomic, Heavy Duty, 18mm

NSN: 8020-00-NIB-0054—Utility Knife, Snap Off Blade, Cushion Grip, Ergonomic, Heavy Duty, 25mm

NSN: 8020-00-NIB-0055—Utility Knife, Retractable, Cushion Grip, Ergonomic, Heavy Duty, 2 pt Blade

NSN: 8020-00-NIB-0056—Snap Off Blades, Replacement, Utility Knife, Standard Duty, 9mm, 13 pt

NSN: 8020-00-NIB-0057—Snap Off Blades, Replacement, Utility Knife, Standard Duty, 18mm, 8pt

NSN: 8020-00-NIB-0059—Snap Off Blades, Replacement, Utility Knife, Heavy Duty, 25mm, 7pt

NSN: 8020-00-NIB-0060—Replacement Blades, Utility Knife

COVERAGE: B-List for the Broad Government Requirement as aggregated by the General Services Administration.

NPA: Industries for the Blind, Inc., West Allis, WI

Contracting Activity: General Services Administration, Tools Acquisition Division I, Kansas City, MO

NSN: MR 10623—Container, Frozen Waffle, Expandable

NSN: MR 10627—Garden Seed Packets, Assorted, 4PK

NPA: Winston-Salem Industries for the Blind, Inc., Winston-Salem, NC

Contracting Activity: Military Resale-Defense Commissary Agency (DeCA), Fort Lee, VA

COVERAGE: C-List for the requirements of military commissaries and exchanges as aggregated by the Defense Commissary Agency.

Folder, File, Hanging

NSN: 7530-01-372-3102—Light Blue, Letter Size, 1 Divider, 4 Sections

NSN: 7530-00-NIB-1098—Light Blue, Letter Size, 2-Dividers, 6 Sections

NSN: 7530-00-NIB-1099—Light Blue, Legal Size, 1-Divider, 4 Sections

NSN: 7530-00-NIB-1100—Light Blue, Legal Size, 2-Dividers, 6 Sections

NPA: Clovernook Center for the Blind and Visually Impaired, Cincinnati, OH

Contracting Activity: GENERAL SERVICES ADMINISTRATION, NEW YORK, NY

COVERAGE: A-List for the Total Government Requirement as aggregated by the General Services Administration.

Helmet, Safety, Cap Style, 6-3/4″ to 8″

8415-00-935-3132—Blue

8415-00-935-3139—White

8415-00-935-3140—Yellow

NPA: Keystone Vocational Services, Sharon, PA

Contracting Agency: General Services Administration, Fort Worth, TX

COVERAGE: A-list for the Total Government Requirement as aggregated by the General Services Administration.

Services

Service Type/Location: Grounds and Tree Maintenance Service, National Oceanic and Atmospheric Administration, Daniel K. Inouye Regional Center, 1876 Wasp Blvd., Honolulu, HI.

NPA: Lanakila Pacific, Honolulu, HI

Contracting Activity: Dept of Commerce, National Oceanic and Atmospheric Administration, Seattle, WA

Service Type/Location: Janitorial/Custodial Service, Defense Contract Management Agency (DCMA) Office, 366 Avenue D, Building 7216, Dyess AFB, TX.

NPA: Training, Rehabilitation, & Development Institute, Inc., San Antonio, TX

Contracting Activity: Defense Contract Management Agency (DCMA), Defense Contract Managment Office, Fort Lee, VA

Service Type/Location: Mail Distribution Service, NASA, John F. Kennedy Space Center, Mail Stop: OP-OS, Kennedy Space Center, FL.

NPA: Anthony Wayne Rehabilitation Center for Handicapped and Blind, Inc., Fort Wayne, IN

Contracting Activity: National Aeronautics and Space Administration, Kennedy Space Center, Kennedy Space Center, FL

Deletions

The following products are proposed for deletion from the Procurement List:

Products

Test Set, Lead

NSN: 6625-01-121-0510

NSN: 6625-00-395-9313

NPA: Elwyn, Inc., Aston, PA

Contracting Activity: Defense Logistics Agency Land and Maritime, Columbus, OH

NSN: 7510-01-219-2309—Ribbon, Typewriter

NPA: Charleston Vocational Rehabilitation Center, North Charleston, SC

Contracting Activity: General Services Administration, New York, NY

Barry S. Lineback,
Director, Business Operations.

[FR Doc. 2013-14873 Filed 6-20-13; 8:45 am]

BILLING CODE 6353-01-P